NATIONAL SCIENCE FOUNDATION

Sunshine Act Meeting

Agency Holding Meeting: National Science Foundation, National Science Board and its Subdivisions.

Date and Time: February 5, 2003: 8 a.m.-5:30 p.m.—Open Session.

Concurrent Session: February 5, 2003: 2:20 p.m.-3 p.m.—Closed Session.

February 6, 2003: 8 a.m.-4:30 p.m.—Open Session.

Concurrent Session: February 6, 2003: 8 a.m.-8:40 a.m.—Closed Session.

February 6, 2003: 12:30 p.m.-1 p.m.—Closed Session.

February 7, 2003: 8:30 a.m.-3 p.m.—Open Session.

Place: February 5, 6, 2003: The National Science Foundation, Room 1235, 4201 Wilson Boulevard, Arlington, VA 22230, www.nsf.gov/nsb.

February 7, 2003: Fairmont Hotel, Sulgrave Room, 2401 M Street NW., Washington, DC.

Contact for Information: NSF Information Center (703) 292-5111.

Status: Part of this meeting will be closed to the public.

Part of this meeting will be open to the public.

Matters To Be Considered:

Wednesday, February 5, 2003

Open

Task Force on National Workforce Policy for S&E (8 a.m.-10 a.m.), Room 1295:

• Working session on draft NWP report.

Task Force on S&E Infrastructure (8:30 a.m.-10 a.m.), Room 1235:

• Analysis of comments received in response to the INF draft report.

• INF response to comments/suggested revisions.

• Plans for completing the report.

Committee on Strategy & Budget (10 a.m.-12 Noon), Room 1235:

• Future Role of CSB.

• Major Research Equipment & Facilities.

• NSF Strategic Plan Update.

• Strategies for Follow-up on NSB Studies.

• Update on Support of Environmental Sciences.

Subcommittee on S&E Indicators (1 p.m.-2 p.m.), Room 1295:

• S&E Indicators 2004.

• Assigning Chapter Reviewers.

• 2004 Companion Piece.

Executive Committee (2 p.m.-2:20 p.m.), Room 1295:

• Discussion of New Quorum Requirements.

Subcommittee on Polar Issues (2 p.m.-3 p.m.), Room 1235:

• OPP Director's Update.

• Study of Environmental Arctic Change (SEARCH).

• International Trans-Antarctic Science Expedition (ITASE).

• Aircraft Safety: Antarctica.

Committee on Education & Human Resources (3 p.m.-5:30 p.m.), Room 1235:

• Report from the Subcommittee on S&EI.

• Report from the EHR AD.

• Report from the Task Force on NWP.

• Focus on the Future: Virtual Laboratories.

• Report on Education & Diversity Activities in the CISE Directorate.

• The EHR Budget for FY 03 and Prospects for FY 04.

• Information Item: NSF Partnership with DoD for the Funding of REU Sites.

Closed

Executive Committee (2:20 p.m.-3 p.m.), Room 1295:

• Specific Personnel Matters.

• Future NSF Budgets.

Thursday, February 6, 2003

Closed

Committee on Programs & Plans (8 a.m.-8:40 a.m.), Room 1235:

• NSM Action Item: Elementary Particle Physics Program, Division of Physics, Mathematical and Physical Sciences Directorate.

• National Facilities & Instrumentation Program Award, Division of Materials Research, Mathematical and Physical Sciences Directorate.

Plenary Session of the Board (12:30 p.m.-1 p.m.):

• Awards & Agreements.

• Executive Officer Search.

Open

Committee on Audit & Oversight (8 a.m.-10 a.m.), Room 1295:

• Performance and Accountability Report Overview.

• FY 2002 Financial Statement Audit Process & Results.

• Responses to Audit Findings and Follow-up Activities.

• Security Considerations—CIO.

Committee on Programs & Plans (8:40 a.m.-10:15 a.m.), Room 1235:

• Infrastructure Task Force Report.

• CPP Issues.

• NSB Information Item: Status of George E. Brown Network for Earthquake Engineering Simulation.

• NSB Information Item: Science of Learning Centers.

• Polar Issues Subcommittee Report.

Plenary Session of the Board (10:30 a.m.-11:30 a.m.), Room 1235:

• Office of Polar Programs Science Update.

Plenary Session of the Board (1 p.m.-4:30 p.m.), Room 1235:

• Minutes.

• Closed Session Items for March 2003.

• Chairman's Report.

• Director's Report.

• Committee Reports.

Friday, February 7, 2003

Open

National Science Board Retreat, Sulgrave Room, Fairmont Hotel, 3401 M Street NW., Washington, DC.

• Review and Discussion of May, 2002 Retreat Issues.

• Director's Perspective on Next Steps and Challenges.

• Presentation and Discussion of White Paper on NSB Policy Voice.

• Budget: How to Give Input to Budget Priorities.

• Vision of Future Directions/Challenges—Standing Committees.

• NSB/NSBO Operational Issues and Challenges.

• Discussion: Is the Board Organized Optimally To Do Its Work?

• General Discussion of Next Steps/Other Business.

Gerard Glaser,
Executive Officer, NSB.

[FR Doc. 03-2516 Filed 1-30-03; 1:10 pm]

BILLING CODE 7555-01-M